DEPARTMENT OF HEALTH AND HUMAN SERVICES

Meeting of the Advisory Committee on Blood Safety and Availability

AGENCY: Department of Health and Human Services, Office of the Secretary.

ACTION: Notice of meeting.

SUMMARY: The Advisory Committee on Blood Safety and Availability will meet to review progress and solicit additional comments from the Committee regarding numerous recommendations made over the past year. Specifically, the Committee will hear updates of previous recommendations. In addition, the Committee will be asked to continue its deliberation on strategies for vigilant detection and management of emerging or re-emerging infectious diseases, since it is a necessary first step toward the goal of reducing the risk of transfusion-transmitted diseases as well as disease transmission through other vital products such as bone marrow, progenitor cells, tissues, and organs.

DATES: The meeting will take place Monday, September 19, 2005 and Tuesday, September 20, 2005 from 9 a.m. to 5 p.m. The meeting will be open to the public after 9 a.m.

ADDRESSES: Bethesda North Marriott Hotel and Conference Center, 5701 Marinelli Road, North Bethesda, Maryland 20852 (301-984-0004).

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8809, FAX (240) 453-8456, e-mail jholmberg@osophs.dhhs.gov

SUPPLEMENTARY INFORMATION: Public comment will be solicited at the meeting and will be limited to five minutes per speaker. Anyone planning to comment is encouraged to contact the Executive Secretary at his/her earliest convenience. Those who wish to have printed material distributed to Advisory Committee members should submit thirty (30) copies to the Executive Secretary prior to close of business September 15, 2005. Likewise, those who wish to utilize electronic data projection to the Committee must submit their materials to the Executive Secretary prior to close of business September 15, 2005.

Dated: August 5, 2005.
Jerry A. Holmberg,
Executive Secretary, Advisory Committee on Blood Safety and Availability.

[FR Doc. 05-16048 Filed 8-11-05; 8:45 am]

BILLING CODE 4150-41-P